DEPARTMENT OF TRANSPORTATION

Coast Guard

33 CFR Part 165

[CGD09-01-104]

RIN 2115-AA97

Safety Zone; Lake Erie, Cleveland Harbor, Cleveland, OH

AGENCY: Coast Guard, DOT.

ACTION: Temporary final rule.

SUMMARY: The Coast Guard is establishing a Safety Zone encompassing the navigable waters adjacent to the Cleveland Port Authority, on Cleveland Harbor, Lake Erie. The Safety Zone is necessary to ensure the safety of spectator vessels during a fireworks display launched from a barge moored to the Cleveland Port Authority property on August 18, 2001. This regulation is intended to restrict vessel traffic from a portion of Lake Erie and Cleveland Harbor. Entry into, transit through or anchoring within this Safety Zone is prohibited unless authorized by the Coast Guard Patrol Commander, which may be contacted on VHF/FM Channel 16.

DATES: This temporary final rule is effective 9 p.m. until 10:15 p.m. (e.s.t.), August 18, 2001.

ADDRESSES: Comments and material that may be received from the public will be made part of docket CGD09-01-104, and will be available for inspection and copying at Coast Guard Marine Safety Office Cleveland, Ohio, 1055 East Ninth Street, Cleveland, Ohio, 44114, between 7:30 a.m. and 4 p.m. Monday through Friday, except Federal holidays.

FOR FURTHER INFORMATION CONTACT: Lieutenant John Natale, U.S. Coast Guard Marine Safety Office Cleveland, 1055 East Ninth Street, Cleveland, Ohio 44114. The telephone number is (216) 937-0111.

SUPPLEMENTARY INFORMATION:

Regulatory Information

We did not publish a notice of proposed rulemaking (NPRM) for this regulation. Under 5 U.S.C. 553(b)(B), the Coast Guard finds that good cause exists for not publishing an NPRM, and, under 5 U.S.C. 553(d)(3), good cause exists for making this rule effective less than 30 days after publication in the Federal Register. The Coast Guard had insufficient advance notice to publish an NPRM followed by a temporary final rule. Publication of a notice of proposed rulemaking and delay of effective date would be contrary to the public interest because immediate action is necessary to prevent possible loss of life, injury, or damage to property. The Coast Guard has not received any complaints or negative comments with regard to this event.

Background and Purpose

On August 18, 2001, at approximately 9:30 p.m. a fireworks and pyrotechnic display will be launched from a barge moored to the end of dock 26 at the Cleveland Port Authority. Spectators are expected to view the display from the adjacent Cleveland Browns football stadium, and private and commercial spectator vessels are expected in Cleveland Harbor. A safety zone will be in effect on August 18, 2001, from 9 p.m. until 10:15 p.m. The safety zone will include the navigable waters of Cleveland Harbor: East Basin, Eastern Section bounded by a line beginning at coordinates 41°30′29″N, 081°42′08″W; continuing north to coordinates 41°30′44″N, 081°42′19″W; then southwest along the breakwall to 41°30′34″N, 081°42′41″W then proceeding southeast to 41°30′19″N, 081°42′26″W, and then along the shoreline back to the beginning. These coordinates are based upon North American Datum 1983 (NAD 83).

Regulatory Evaluation

This temporary rule is not a significant regulatory action under section 3(f) of Executive Order 12866 and does not require an assessment of potential costs and benefits under section 6(a)(3) of that order. The Office of Management and Budget has exempted it from review under that order. It is not significant under the regulatory policies and procedures of the Department of Transportation (DOT) (44 FR 11040 February 26, 1979). The Coast Guard expects the economic impact of this proposal to be so minimal that a full Regulatory Evaluation under paragraph 10(e) of the regulatory policies and procedures of DOT is unnecessary.

Small Entities

Under the Regulatory Flexibility Act (5 U.S.C. 601 et seq.) the Coast Guard considered whether this rule will have a significant impact on a substantial number of small businesses and not-for-profit organizations that are not dominant in their respective fields, and governmental jurisdictions with populations less than 50,000. For the same reasons set forth in the above regulatory evaluation, the Coast Guard certifies under section 605(b) of the Regulatory Flexibility Act (5 U.S.C. 601 et esq.) that this temporary final rule will not have a significant economic impact on a substantial number of small entities. This Safety Zone will not have a significant economic impact on a substantial number of small entities for the following reason: this rule will be in effect for approximately one hour. Before the effective period, we will issue maritime advisories widely available to users of the waterway.

Assistance for Small Entities

In accordance with section 213(a) of the Small Business Regulatory Enforcement Fairness Act of 1996 (Pub. L. 104-121), the Coast Guard wants to assist small entities in understanding this rule so that they can better evaluate its effectiveness and participate in the rulemaking process. If your small business or organization is affected by this rule, and you have questions concerning its provisions or options for compliance, please contact the office listed in ADDRESSES in this preamble.

Collection of Information

This rule contains no information collection requirements under the Paperwork Reduction Act (44 U.S.C. 3501 et seq.).

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Federalism

The Coast Guard has analyzed this rule under the principles and criteria contained in Executive Order 13132 and has determined that this rule does not have sufficient federalism implications to warrant the preparation of a Federalism Assessment.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard has considered the environmental impact of this regulation and concluded that, under figure 2-1, paragraph 34(g) of Commandant Instruction M16475.1C, this rule is categorically excluded from further environmental documentation.

List of Subjects in 33 CFR Part 165

Harbors, Marine safety, Navigation (water), Reporting and recordkeeping requirements, Security measures, Waterways.

For the reasons set out in the preamble, the Coast Guard amends 33 CFR part 165 as follows:

PART 165—REGULATED NAVIGATION AREAS AND LIMITED ACCESS AREAS.

1. The authority citation for part 165 continues to read as follows:

Authority: 33 U.S.C. 1231; 50 U.S.C. 191, 33 CFR 1.05-1(g), 6.04-1, 6.04-6, 160.5; 49 CFR 1.46.

2. A new temporary § 165.T09-983 is added to read as follows:

§ 165.T09-983 Safety Zone; Lake Erie, Cleveland Harbor, Ohio.

(a) Location. The safety zone will include the navigable waters of Cleveland Harbor and Lake Erie beginning at coordinates 41°30′29″ N, 081°42′08″ W; continuing north to coordinates 41°30′44″ N, 081°42′19″ W; thence southwest along the breakwall to 41°30′34″ N, 081°42′41″ W; then southeast to 41°30′19″ N, 081°42′26″ W, and then along the shoreline back to the beginning. All coordinates are based on North American Datum 1983 (NAD 83).

(b) Effective dates. This section is effective from 9 p.m. until 10:15 p.m. on August 18, 2001.

(c) Regulations. In accordance with the general regulations in § 165.23 of this part, entry into, transit through, or anchoring within this Safety Zone is prohibited unless authorized by the Captain of the Port, Cleveland or his representative on the Coast Guard vessel on scene. The Coast Guard Patrol Commander may be contacted on VHF Channel 16.

Dated: July 31, 2001.
R. J. Perry,
Commander, U.S. Coast Guard, Captain of the Port, Cleveland, Ohio.

[FR Doc. 01-19935 Filed 8-8-01; 8:45 am]

BILLING CODE 4910-15-U